ENVIRONMENTAL PROTECTION AGENCY

40 CFR Part 370

[EPA-HQ-OLEM-2025-0299; FRL-12698-05-OLEM]

RIN 2050-AH40

Technical Amendments to the EPCRA Hazardous Chemical Inventory Reporting Requirements To Conform to the 2024 OSHA Hazard Communication Standard; Withdrawal

AGENCY: Environmental Protection Agency (EPA).

ACTION: Withdrawal of direct final rule.

SUMMARY: Because the Environmental Protection Agency (EPA) received adverse comment, we are withdrawing the direct final rule Technical Amendments to the Emergency Planning and Community Right-to-Know Act (EPCRA) Hazardous Chemical Inventory Reporting Requirements to Conform to the 2024 OSHA Hazard Communication Standard, published in the Federal Register on November 17, 2025.

DATES: Effective January 9, 2026, the EPA withdraws the direct final rule published at 90 FR 51187, on November 17, 2025.

FOR FURTHER INFORMATION CONTACT: Jennifer Barre, Office of Resource Conservation and Recovery, Waste and Chemical Implementation Division (5303T), Environmental Protection Agency, 1200 Pennsylvania Ave NW, Washington, DC 20460; telephone number: (240) 644-4559; email address: barre.jennifer@epa.gov; websites: https://www.epa.gov/epcra/emergency-planning-andcommunity-right-know-act-non-section-313-regulations-and-amendments.

SUPPLEMENTARY INFORMATION: Because the EPA received adverse comment, we are withdrawing the direct final rule entitled, “Technical Amendments to the EPCRA Hazardous Chemical Inventory Reporting Requirements to Conform to the 2024 OSHA Hazard Communication Standard,” published on November 17, 2025 (90 FR 51187). We stated in that direct final rule that if we received adverse comment by December 17, 2025, the direct final rule would not take effect and we would publish a timely withdrawal in the Federal Register. Because the EPA subsequently received adverse comment on that direct final rule, we are withdrawing the direct final rule.

The EPA published a parallel proposed rule on the same day as the direct final rule (90 FR 51266). The proposed rule invited comment on the substance of the direct final rule. We will address those comments in any subsequent final action, which will be based on the parallel proposed rule. As stated in the direct final rule and the parallel proposed rule, we do not intend to institute a second comment period on this action.

List of Subjects in 40 CFR Part 370

Environmental protection, Chemicals, Emergency preparedness, Hazardous substances, Occupational safety and health, Reporting and recordkeeping requirements.

John W. Busterud,
Assistant Administrator, Office of Land and Emergency Management.

Accordingly, the rule amending 40 CFR part 370 published on November 17, 2025 (90 FR 51187), is withdrawn as of January 9, 2026.

[FR Doc. 2026-00259 Filed 1-8-26; 8:45 am]

BILLING CODE 6560-50-P